DEPARTMENT OF THE INTERIOR

Fish and Wildlife Service

[FWS-R1-ES-2020-N057]; [FXES11140100000-201-FF01E00000]

Proposed Site Plan Under a Candidate Conservation Agreement With Assurances for the Fisher in Oregon; Enhancement of Survival Permit Application

AGENCY: Fish and Wildlife Service, Interior.

ACTION: Notice of availability; request for comments.

SUMMARY: We, the U.S. Fish and Wildlife Service (Service), received an application for an enhancement of survival permit (permit) pursuant to the Endangered Species Act of 1973, as amended (ESA). If granted, the requested permit would authorize the applicant's take of the fisher, incidental to otherwise lawful activities should the species become federally listed under the ESA. The application is associated with a template candidate conservation agreement with assurances (CCAA) developed by the Service for the conservation of the fisher. The conservation measures in the CCAA are intended to provide a net conservation benefit to the fisher. We have also prepared a draft environmental action statement that the permit decision may be eligible for categorical exclusion under the National Environmental Policy Act. We provide this notice to open a public comment period and invite comments from all interested parties regarding the documents.

DATES: Submit written comments no later than June 22, 2020.

ADDRESSES: To request further information or submit written comments, please use one of the following methods:

• Internet: Documents may be viewed on the internet at http://www.fws.gov/oregonfwo/.

• Email: ChinookCCAAcomments@fws.gov. Include “Chinook Fisher CCAA” in the subject line of the message.

• U.S. Mail: State Supervisor, Oregon Fish and Wildlife Office, U.S. Fish and Wildlife Service; 2600 SE 98th Avenue, Suite 100; Portland, OR 97266.

• Fax: 503-231-6195, Attn: Fisher CCAA.

FOR FURTHER INFORMATION CONTACT: Richard Szlemp (see ADDRESSES); telephone: 503-231-6179; facsimile: 503-231-6195. If you use a telecommunications device for the deaf, please call the Federal Relay Service at 800-877-8339.

SUPPLEMENTARY INFORMATION: We, the U.S. Fish and Wildlife Service (Service), received an application for an enhancement of survival permit (permit) from Chinook Forest Partners, LLC (applicant) in Oregon pursuant to section 10(a)(l)(A) of the Endangered Species Act of 1973, as amended (ESA; 16 U.S.C. 1531 et seq.). If granted, the requested permit would authorize take of the fisher (Pekania pennanti) incidental to the applicant's routine forest-related management activities should the species become federally listed under the ESA. The application includes a proposed individual site plan and is associated with a template candidate conservation agreement with assurances (CCAA) developed by the Service for the conservation of the fisher. We have prepared a draft environmental action statement (EAS) for our preliminary determination that the permit decision may be eligible for categorical exclusion under the National Environmental Policy Act (NEPA; 42 U.S.C. 4321 et seq.). We provide this notice to open a public comment period and invite comments from all interested parties regarding the documents referenced above.

Background

A CCAA is a voluntary agreement whereby landowners agree to manage their lands to remove or reduce threats to species that may become listed under the ESA (64 FR 32726; June 17, 1999). CCAAs are intended to facilitate the conservation of proposed and candidate species, and species likely to become candidates in the near future, by giving non-Federal property owners incentives to implement conservation measures for declining species by providing certainty with regard to land, water, or resource use restrictions that might be imposed should the species later become listed as threatened or endangered under the ESA. In return for managing their lands to the benefit of the covered species, enrolled landowners receive assurances that additional regulatory requirements pertaining to the covered species will not be required if the covered species becomes listed as threatened or endangered under the ESA, so long as the CCAA remains in place and is being fully implemented.

A CCAA serves as the basis for the Service to issue permits to non-Federal participants pursuant to section 10(a)(l)(A) of the ESA. Application requirements and issuance criteria for permits under CCAAs are found in the Code of Regulations (CFR) at 50 CFR 17.22(d) and 17.32(d). The Service developed a template CCAA for the West Coast distinct population segment (DPS) of the fisher in Oregon and a draft EAS for future issuance of permits under the finalized template to comply with NEPA. The template CCAA and the EAS were noticed for comment in the Federal Register (81 FR 15737; March 24, 2016). The template CCAA and EAS were finalized and signed by the Service on June 20, 2018.

The CCAA template established general guidelines and identified minimum conservation measures for potential participants in the CCAA. Interested participants can voluntarily enroll their properties under the CCAA through development of individual site plans prepared in accordance with the provisions of the CCAA and that are submitted as part of their permit applications. The permits would authorize incidental take of the fisher with assurances to qualifying landowners who carry out conservation measures that would benefit the West Coast DPS of the fisher.

Proposed Actions

We have received an application for an ESA section 10(a)(l)(A) permit under the template CCAA for the fisher from the applicant for their identified lands in Oregon. Chinook Forest Partners, LLC, including its subsidiary Chinook Forest Management, LLC, manages timberland on behalf of Siskiyou Timberlands, LLC, and is responsible for planning and carrying out forest management activities. Chinook Forest Partners, LLC seeks to enroll all of its managed Oregon timberlands in Douglas, Jackson, Josephine, and Klamath counties. These lands total approximately 62,000 acres in many separate parcels.

The requested permit would authorize incidental take of the fisher, should it become federally listed and affected by the applicant's routine forest-related management activities on their properties through June 20, 2048. Fisher are not currently known to occur on the applicant's proposed enrolled lands, but they have been located in the past on nearby lands.

The permit application includes a proposed site plan that describes the lands covered by the permit and the conservation measures required under the template CCAA that will be implemented on covered lands. The primary conservation measures provided in the site plan include:

• Allowing access to covered lands to conduct fisher surveys;

• Protecting fisher dens and their young by limiting disturbance and impacts to denning structures;

• Limiting trapping/nuisance control for other animals that could pose a risk to the fisher (trapping of fishers is prohibited by State of Oregon law);

• Allowing the potential future translocation of fishers onto enrolled lands; and

• Promoting the development of habitat structures that would support the fisher.

Public Comments

We are making the permit application package, including the individual site plan and draft EAS, available for public review and comment (see ADDRESSES). The final template CCAA and EAS that were finalized and signed by the Service on June 20, 2018, are also available for public information. You may submit your comments and materials by one of the methods listed in the ADDRESSES section. We request data, comments, new information, or suggestions from the public, other concerned governmental agencies, the scientific community, Tribes, industry, or any other interested party on our proposed Federal action, including on the adequacy of the site plan prepared in accordance with the template CCAA, pursuant to the requirements for permits at 50 CFR parts 13 and 17.

Public Availability of Comments

All comments and materials we receive become part of the public record associated with this action. Before including your address, phone number, email address or other personal identifying information in your comments, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Authority

We provide this notice in accordance with the requirements of section 10(c) of the ESA (16 U.S.C. 1531 et seq.) and NEPA (42 U.S.C. 4321 et seq.), and their implementing regulations (50 CFR 17.22, and 40 CFR 1506.6, respectively).

Mary Abrams,
Deputy Regional Director, U.S. Fish and Wildlife Service.

[FR Doc. 2020-10923 Filed 5-20-20; 8:45 am]

BILLING CODE 4333-15-P